DEPARTMENT OF TRANSPORTATION

Federal Motor Carrier Safety Administration

49 CFR Part 369

[Docket No. FMCSA-2012-0020]

RIN-2126-AB48

Rescission of Quarterly Financial Reporting Requirements

AGENCY: Federal Motor Carrier Safety Administration (FMCSA), DOT.

ACTION: Withdrawal of direct final rule.

SUMMARY: FMCSA withdraws its June 27, 2012, direct final rule eliminating the quarterly financial reporting requirements for certain for-hire motor carriers of property (Form QFR) and for-hire motor carriers of passengers (Form MP-1). After reviewing the adverse comment received from SJ Consulting Group in response to the direct final rule, the agency has determined that it would be inappropriate to allow the direct final rule to take effect. The FMCSA intends to publish a notice of proposed rulemaking in the near future proposing the elimination of the quarterly financial reporting requirements for Form QFR and Form MP-1.

DATES: The direct final rule published at 77 FR 38211, June 27, 2012 is withdrawn, effective August 27, 2012.

FOR FURTHER INFORMATION CONTACT: Ms. Vivian Oliver, Office of Research and Information Technology, Federal Motor Carrier Safety Administration, 1200 New Jersey Ave. SE., Washington, DC 20590; Telephone 202-366-2974; email Vivian.Oliver@dot.gov.

SUPPLEMENTARY INFORMATION:

I. Public Participation and Comments

A. Viewing Comments and Documents

To view comments, go to http://www.regulations.gov/#!docketDetail;D=FMCSA-2012-0020. If you do not have access to the Internet, you may also view the docket online by visiting the Docket Management Facility in Room W12-140 on the ground floor of the Department of Transportation West Building, 1200 New Jersey Avenue SE., Washington, DC 20590, between 9 a.m. and 5 p.m. e.t., Monday through Friday, except Federal holidays.

B. Privacy Act

Anyone can search the electronic form of comments received into any of our dockets by the name of the individual submitting the comment (or signing the comment, if submitted on behalf of an association, business, labor union, etc.). You may review a Privacy Act notice regarding our public dockets in the January 17, 2008 issue of the Federal Register (73 FR 3316).

II. Background

On June 27, 2012, FMCSA published a direct final rule proposing to eliminate the quarterly financial reporting requirements for certain for-hire motor carriers of property (Form QFR) and for-hire motor carriers of passengers (Form MP-1), if no adverse comments were received by July 27, 2012. After reviewing the one set of adverse comments received from SJ Consulting Group, the agency has determined that it would be inappropriate to allow the direct final rule to take effect.

SJ Consulting Group stated that it uses the quarterly financial information to advise motor carriers, shippers, and persons interested in buying motor carriers. It argued that the quarterly reports provide useful insight into the U.S. trucking industry, such as operating statistics that are not available from other public sources, particularly for private carriers. Although SJ Consulting conceded that says some data on general demand and pricing trends are available from other sources, it argued that quarterly data on the profitability of carriers are essential in providing safe and timely service to shippers, estimating future growth rates, and assessing opportunities for profitable investment in the trucking industry. SJ Consulting has used Form QFR reports for these purposes for many years.

FMCSA Response: SJ Consulting submitted an adverse comment with an explanation of why it disagrees with the direct final rule. For this reason, FMCSA withdraws the direct final rule of June 27, 2012, based on the adverse comments of SJ Consulting Group.

Issued on: August 15, 2012.
Larry W. Minor,
Associate Administrator for Policy.

[FR Doc. 2012-21021 Filed 8-24-12; 8:45 am]

BILLING CODE 4910-EX-P